FEDERAL COMMUNICATIONS COMMISSION

47 CFR Parts 1, 2, 20, 27 and 90

[WT Docket No. 17-200; FCC 19-18]

Commission Proposes To Reconfigure the 900 MHz Band To Facilitate Broadband Services; Correction

AGENCY: Federal Communications Commission.

ACTION: Proposed rule; correction.

SUMMARY: The Federal Communications Commission (Commission) published a document in the Federal Register on April 3, 2019, regarding the Commission's proposal to facilitate broadband deployment in the 896-901/935-940 MHz band. The document provided incorrect dates by which parties may file comments and reply comments. This document corrects those dates.

DATES: April 11, 2019.

FOR FURTHER INFORMATION CONTACT: Stana Kimball, Mobility Division, Wireless Telecommunications Bureau, at (202) 418-1306, email: stanislava.kimball@fcc.gov.

SUPPLEMENTARY INFORMATION:

Correction

In the Federal Register of April 3, 2019 (84 FR 12987, in FR Doc. 2019-06349, on page 12987, in the third column, correct the DATES section to read:

DATES: Interested parties may file comments on or before June 3, 2019, and reply comments on or before July 2, 2019.

Federal Communications Commission.
Katura Jackson,
Federal Register Liaison Officer, Office of the Secretary.

[FR Doc. 2019-07093 Filed 4-10-19; 8:45 am]

BILLING CODE 6712-01-P